ENVIRONMENTAL PROTECTION AGENCY

40 CFR Part 52

[EPA-R10-OAR-2008-0122; FRL 9910-02-Region 10]

Approval and Promulgation of State Implementation Plans; Washington: Puget Sound Ozone Maintenance Plan

AGENCY: Environmental Protection Agency (EPA).

ACTION: Direct Final rule.

SUMMARY: The Environmental Protection Agency (EPA) is taking a direct final action to approve a maintenance plan for the Central Puget Sound area to maintain the 8-hour ozone National Ambient Air Quality Standard (NAAQS) through 2015. This plan was submitted by the Washington Department of Ecology (Ecology or “the State”) as a revision to its State Implementation Plan (SIP) on January 10, 2008. This action finds that the maintenance plan for this area meets all relevant Clean Air Act (CAA) requirements for approval, and demonstrates that the Central Puget Sound area will remain in attainment with the 1997 and 2008 ozone NAAQS through 2015.

DATES: This rule is effective on July 1, 2014, without further notice, unless the EPA receives adverse comment by June 2, 2014. If the EPA receives adverse comment, we will publish a timely withdrawal in the Federal Register informing the public that the rule will not take effect.

ADDRESSES: Submit your comments, identified by Docket ID No. EPA-R10-OAR-2008-0122, by any of the following methods:

• www.regulations.gov: Follow the on-line instructions for submitting comments.

• Email: R10-Public_Comments@epa.gov.

• Mail: Keith Rose, U.S. EPA Region 10, Office of Air, Waste and Toxics (AWT-107), 1200 Sixth Avenue, Suite 900, Seattle, WA 98101.

• Hand Delivery/Courier: U.S. EPA Region 10, 1200 Sixth Avenue, Suite 900, Seattle, WA 98101. Attention: Keith Rose, Office of Air, Waste and Toxics, AWT-107. Such deliveries are only accepted during normal hours of operation, and special arrangements should be made for deliveries of boxed information.

Instructions: Direct your comments to Docket ID No. EPA-R10-OAR-2008-0122. The EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, is not placed on the Internet and will be publicly available only in hard copy. Publicly available docket materials are available either electronically in www.regulations.gov or in hard copy during normal business hours at the Office of Air, Waste and Toxics, U.S. EPA Region 10, 1200 Sixth Avenue, Seattle, WA 98101.

FOR FURTHER INFORMATION CONTACT: Keith Rose at telephone number: (206) 553-1949, email address: rose.keith@epa.gov, or the above EPA, Region 10 address.

SUPPLEMENTARY INFORMATION: Throughout this document whenever “we,” “us,” or “our” is used, we mean the EPA. Information is organized as follows:

Table of Contents

I. Background

A. Regulatory Context

B. Requirements of CAA Section 110(a)(1) Maintenance Plans

C. How have the Tribal Governments been involved in this process?

II. Summary of SIP Revision and the EPA's Evaluation

III. Final Action

IV. Statutory and Executive Order Reviews

I. Background

A. Regulatory Context

On November 15, 1990, the CAA Amendments of 1990 were enacted. Under section 107(d)(1) of the CAA, the EPA designated the Central Puget Sound area, also called the Seattle-Tacoma area (which includes all of Pierce County, almost all of King County except the northeast corner, and part of Snohomish County), as nonattainment because the area violated the 1-hour ozone standard during the years 1989-1991. As a result, the EPA classified the Central Puget Sound area as “marginal” under section 181(a)(1) of the CAA (56 FR 56847, November 6, 1991). On January 28, 1993, the State of Washington submitted a SIP demonstrating compliance with the 1-hour ozone NAAQS. On August 21, 1995, the State submitted a revision to the Washington Vehicle Inspection and Maintenance (I/M) Program to satisfy the requirements of sections 182(b)(4) and 182(c)(3) of the CAA and 40 CFR part 51, subpart S. This SIP revision requires vehicle owners in the Central Puget Sound area to comply with the Washington I/M program. The EPA approved this I/M program revision on September 25, 1996 (61 FR 50235). On March 4, 1996, the State submitted to the EPA a request to redesignate the Central Puget Sound area to attainment for the 1-hour ozone standard, and a maintenance plan demonstrating maintenance of the ozone standard through 2010. On September 26, 1996, the EPA determined that the Puget Sound area had attained the ozone NAAQS, redesignated the Central Puget Sound area to attainment for the 1-hour ozone NAAQS, and approved the associated maintenance plan (61 FR 50438). On December 17, 2003, Ecology submitted a second 10-year maintenance plan demonstrating that the Central Puget Sound area would maintain air quality standards for ozone through the year 2016. The EPA approved the second 10-year maintenance plan on August 5, 2004 (69 FR 47365).

In 2008, the EPA revised the level of the 8-hour ozone standard to 0.075 ppm (73 FR 16436, March 27, 2008). The Central Puget Sound area was subsequently designated attainment/unclassifiable for the new 8-hour standard (77 FR 30088, May 21, 2012).

B. Requirements of CAA Section 110(a)(1) Maintenance Plans

Section 110(a)(1) of the CAA requires, in part, that states submit to the EPA plans to maintain any NAAQS promulgated by the EPA. Areas like the Central Puget Sound area that were maintenance areas for the 1-hour ozone NAAQS, but unclassifiable/attainment for the 8-hour ozone NAAQS, are required to submit a plan to demonstrate the continued maintenance of the 8-hour ozone NAAQS. The EPA established a deadline of three years after the effective date of the 1997 8-hour ozone designations as the deadline for submission of these plans.

On May 20, 2005, the EPA issued guidance for States in preparing maintenance plans under section 110(a)(1) of the CAA for areas that are required to do so under 40 CFR 51.905.¹ At a minimum, the maintenance plan should include the following five components:

¹ Memorandum titled “Maintenance Plan Guidance Document for Certain 8-hour Ozone Areas Under Section 110(a)(l) of Clean Air Act” by Lydia Wegman, Director, EPA Air Quality Strategies and Standards Division, May 20, 2005.

1. An attainment inventory, which is based on actual typical summer day emissions of volatile organic compounds (VOCs) and oxides of nitrogen (NOX) from a base year chosen by the State;

2. A maintenance demonstration which shows how the area will remain in compliance with the 8-hour ozone standard for 10 years after the effective date of the designation;

3. A commitment to continue to operate ambient air quality monitors to verify maintenance of the 8-hour ozone standard;

4. A contingency plan that will ensure that any violation of the 8-hour ozone NAAQS will be promptly corrected; and

5. An explanation of how the State will verify continued attainment of the standard under the maintenance plan.

On January 10, 2008, the EPA received a SIP submittal from Ecology to approve a maintenance plan submitted under section 110(a)(1) of the CAA to maintain the 8-hour NAAQS for ozone for the Central Puget Sound area. The EPA prepared a Technical Support Document (TSD) with more detailed information about this SIP submittal, which is available for review as part of the docket for this action.

C. How have the Tribal Governments been involved in this process?

Consistent with the EPA's tribal policy, the EPA offered government-to-government consultations to the Tulalip Tribes, the Puyallup Tribe of Indians, the Muckleshoot Indian Tribe, the Stillaguamish Tribe, and the Nisqually Indian Tribe, regarding the action in this notice, because these tribes are located in the Central Puget Sound ozone area and may be affected by this action.

II. Summary of SIP Revision and the EPA's Evaluation

Ecology's 8-hour 110(a)(1) ozone maintenance plan for the Central Puget Sound area addresses all five maintenance plan components outlined in the EPA's guidance of May 20, 2005. All of the 1-hour ozone control measures previously approved into the SIP for the Central Puget Sound area remain in place in this 8-hour 110(a)(1) maintenance plan and are used in the maintenance demonstration. The five components of the maintenance plan and how they meet the EPA's criteria, are described below.

1. Attainment Inventory

An emissions inventory is an itemized list of emission estimates for sources of air pollution in a given area for a specified time period. An attainment inventory is a projection of an emission inventory in a base year, when an area was in attainment with the 8-hour ozone NAAQS, to an appropriate attainment year. Ecology provided a comprehensive base year emissions inventory for NOX and VOCs for the Central Puget Sound area with the SIP submittal. Ecology chose to use 2002 as the base year from which it projected emissions. The SIP submittal also includes an explanation of the methodology used for determining the anthropogenic (point, area and mobile sources) emissions of NOX and VOCs. On-road vehicle emission controls required by the State I/M program were included in the attainment inventory. The inventory is based on emissions on a “typical summer day.” The term “typical summer day” refers to a typical weekday during the months when ozone concentrations are typically the highest. Based on our review of the documentation submitted, the EPA concludes that the attainment inventory has been developed for the appropriate season of an acceptable attainment year, is based on appropriate factors and methods, and is thus acceptable for the purposes of a Section 110(a)(1) ozone maintenance plan.

2. Maintenance Demonstration

The key element of a Section 110(a)(1) ozone maintenance plan is a demonstration of how an area will remain in compliance with the 8-hour ozone standard for the 10-year period following the effective date of designation as unclassifiable/attainment. The end projection year is 10 years from the effective date of the 8-hour attainment designation, which for the Central Puget Sound area was June 15, 2004 (69 FR 23858). Therefore, this plan must demonstrate attainment through year 2014. Ecology has projected emissions for the year 2015, which is more than 10 years from the effective date of initial designations. With regard to demonstrating continued maintenance of the 8-hour ozone standard, Ecology projected that the total emissions of ozone precursors in the Central Puget Sound area will significantly decrease from 2002 (the base year) through 2015. In 2002, the total anthropogenic emissions of VOCs in the Central Puget Sound area were 474 tons/day, and 446 tons/day for NOX. The 2015 anthropogenic emissions from the Central Puget Sound area are projected to be 346 tons/day for VOCs, and 411 tons/day for NOX. Thus, the total emissions of VOCs in 2015 are projected to be about 27% lower than the 2002 level, and total NOX emissions in 2015 are projected to be about 8% lower than the 2002 level.

The formation of ozone is dependent on a number of variables which cannot be estimated only through emissions growth and reduction calculations. These variables include weather and the transport of ozone precursors from outside the maintenance area. In order to demonstrate continued maintenance of the standards, a state may utilize more sophisticated tools such as air quality dispersion modeling to support their analysis. In the SIP submittal, Ecology used air quality dispersion modeling to assess the comprehensive impacts of growth through 2015 on ozone levels in the area. The results of this modeling demonstrate that the highest predicted design value (the 3-year average of the fourth highest daily maximum 8-hour average ozone value) for the Central Puget Sound area in 2015 would be 0.068 ppm, which is below both the 1997 and the 2008 ozone NAAQS, and would therefore be in compliance with both ozone NAAQS.

Based on the estimated emissions of VOCs and NOX submitted with this maintenance plan, the EPA concludes that this maintenance plan would not cause an increase of direct emissions or precursor emissions that would interfere with the maintenance of any criteria pollutant NAAQS in the Central Puget Sound area. Therefore, the EPA concludes that the maintenance demonstration submitted by the State meets the requirement of a section 110(a)(1) ozone maintenance plan.

3. Ambient Air Quality Monitoring

With regard to the ambient air monitoring component of the maintenance plan, Ecology commits to continue operating the current Puget Sound ozone monitoring network in accordance with all of the applicable requirements of 40 CFR part 58 throughout the maintenance period to verify maintenance of the 8-hour ozone standard. Ecology will also submit quality-assured ozone data to the EPA's Air Quality System within 90 days of the end of each quarter. The State of Washington's ambient air monitoring network meets all applicable EPA air monitoring regulations, and was most recently approved by the EPA on March 10, 2014. The EPA therefore finds that the State's ambient air monitoring network satisfies the requirements of CAA section 110(a).

4. Contingency Plan

Section 110(a)(1) of the CAA requires the State to develop a contingency plan that will ensure that any violation of a NAAQS is promptly corrected. The purpose of the contingency plan is to provide a range of response actions that may be selected for implementation in the event of any violation of the 8-hour ozone NAAQS.

There are two regulations adopted by the Puget Sound Clean Air Agency, the local air agency with jurisdiction in the Central Puget Sound area, on December 19, 2002, that are identified as contingency measures in this maintenance plan. These regulations were included as contingency measures in the ozone second 10-year maintenance plan for the Central Puget Sound area that was approved by the EPA on August 5, 2004 (69 FR 47364 and 69 FR 47365). These contingency measures are: (1) Regulation I, Section 8.06, Outdoor Burning Ozone Contingency Measure, and (2) Regulation II, Section 2.10, Gasoline Station Ozone Contingency Measure. Both the outdoor burning and the gasoline station contingency regulations would be triggered by a written finding from the EPA of a quality-assured violation of the ozone NAAQS and a determination that future violations can reasonably be addressed through implementing these regulations. The EPA finds that these contingency measures satisfy the requirements of CAA section 110(a).

5. Verification of Continued Attainment

Since 1991, there have been no violations of either the 1997 or 2008 8-hour ozone standards at any ozone monitoring site in the Central Puget Sound ozone area. Ecology will continue to monitor ambient air quality ozone levels in the Central Puget Sound area and verify attainment of the ozone NAAQS as described in the maintenance plan. The State commits to preparing summer day emission inventories for the interim years of 2008, 2011 and 2014, and will compare these emission inventory results with the modeling emission inventories to ensure continued compliance with the 8-hour ozone NAAQS. The EPA finds that these methods to verify continued attainment of the ozone NAAQS satisfy the requirements of CAA section 110(a).

The EPA finds that the maintenance plan for the Central Puget Sound ozone area adequately addresses all five components outlined in the EPA's guidance of May 20, 2005, for developing maintenance plans under 110(a)(1) of the CAA.

III. Final Action

The EPA is approving a maintenance plan to maintain the 8-hour ozone NAAQS in the Central Puget Sound ozone area that was submitted by the State of Washington as a revision to its SIP on January 10, 2008. The maintenance plan for this area meets all CAA 110(a)(1) requirements and demonstrates that the Central Puget Sound ozone area will remain in attainment with the 1997 and 2008 ozone NAAQS through 2015. This decision was reached after offering consultation to the Tulalip Tribes, the Puyallup Tribe of Indians, the Muckleshoot Indian Tribe, the Stillaguamish Tribe, and the Nisqually Indian Tribe. The EPA did not receive any requests for consultation from these tribes.

IV. Statutory and Executive Order Reviews

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA ; and

• Does not provide the EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because it will not impose substantial direct costs on tribal governments or preempt tribal law. The SIP is not approved to apply in Indian country located in the State, except for non-trust land within the exterior boundaries of the Puyallup Indian Reservation, also known as the 1873 Survey Area. Under the Puyallup Tribe of Indians Settlement Act of 1989, 25 U.S.C. 1773, Congress explicitly provided state and local agencies in Washington authority over activities on non-trust lands within the 1873 Survey Area and the EPA is therefore approving this SIP on such lands. Consistent with EPA policy, the EPA provided a consultation opportunity to the Tulalip Tribes, the Puyallup Tribe of Indians, the Muckleshoot Indian Tribe, the Stillaguamish Tribe, and the Nisqually Indian Tribe in letters dated December 24, 2013. The EPA did not receive a request for consultation from these tribes.

The Congressional Review Act, 5 U.S.C. 801, et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 1, 2014. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that the EPA can withdraw this direct final rule and address the comment in the proposed rulemaking. This action may not be challenged later in proceedings to enforce its requirements (See CAA section 307(b)(2).).

List of Subjects in 40 CFR Part 52

Environmental protection, Air pollution control, Carbon monoxide, Hydrocarbons, Incorporation by reference, Intergovernmental relations, Nitrogen dioxide, Ozone, Reporting and recordkeeping requirements, Volatile organic compounds.

Dated: April 10, 2014.
Michelle L. Pirzadeh,
Acting Regional Administrator, Region 10.

40 CFR part 52 is amended as follows:

PART 52—APPROVAL AND PROMULGATION OF IMPLEMENTATION PLANS

1. The authority citation for part 52 continues to read as follows:

Authority: 42 U.S.C. 7401, et seq.

Subpart WW—Washington

2. Section 52.2470 is amended in table 2 of paragraph (e) by adding an entry “8-Hour Ozone 110(a)(1) Maintenance Plan” at the end of the section with the heading “Attainment and Maintenance Planning—Ozone.” to read as follows:

§ 52.2470 Identification of plan.

* * * * *

(e) * * *

Table 2—Attainment, Maintenance, and Other Plans
Name of SIP provision | Applicable geographic or nonattainment area | State submittal date | EPA approval date | Comments
* * * * * * *
Attainment and Maintenance Planning—Ozone
* * * * * * *
8-Hour Ozone 110(a)(1) Maintenance Plan | Seattle-Tacoma | 2/5/08 | 5/2/14 [Insert page number where the document begins].
* * * * * * *

[FR Doc. 2014-09878 Filed 5-1-14; 8:45 am]

BILLING CODE 6560-50-P